DEPARTMENT OF THE INTERIOR

Bureau of Land Management

[CA-310-0777-AE]

Notice of Resource Advisory Council Meeting

AGENCY: Bureau of Land Management, Northwest California Resource Advisory Council, Williams, California.

ACTION: Notice of meeting.

SUMMARY: Pursuant to the authorities in the Federal Advisory Committees Act (Pub. L. 92-463) and the Federal Land Policy and Management Act (Pub. L. 94-579), the U.S. Bureau of Land Management's Northwest California Resource Advisory Council will meet Wednesday and Thursday, Jan. 24, and 25, 2001, for a business meeting and field tour. The meeting and tour are open to the public, but anyone participating in the tour must provide their own transportation and lunch.

SUPPLEMENTARY INFORMATION: The meeting begins at 10 a.m. Wednesday, Jan. 24, at Granzella's Inn, 391 Sixth St., Williams, California. The members will depart immediately for a tour of public lands managed by the BLM's Ukiah Field Office. Discussions will focus on cultural resources and Native American issues. On Thursday, Jan. 25, the council will convene a business meeting at 8 a.m. in the Conference Room at Granzella's Inn. Agenda items will include a report on the BLM's new mining regulations, a presentation on best management practices for water quality, a status report on a management feasibility study at Lake Berryessa, and reports from the managers of the BLM Arcata, Redding and Ukiah field offices.

Time will be set aside for public comments. Depending on the number of persons wishing to speak, a time limit may be established.

FOR ADDITIONAL INFORMATION: Contact Lynda J. Roush, BLM Arcata Field Manager, at (707) 825-2300.

Joseph J. Fontana,
Public Affairs Officer.

[FR Doc. 00-30838 Filed 12-4-00; 8:45 am]

BILLING CODE 4310-40-P